DEPARTMENT OF VETERANS AFFAIRS

[OMB Control No. 2900-0564]

Agency Information Collection (Direct Deposit Enrollment) Activities under OMB Review

AGENCY: Veterans Benefits Administration, Department of Veterans Affairs.

ACTION: Notice.

SUMMARY: In compliance with the Paperwork Reduction Act (PRA) of 1995 (44 U.S.C. 3501-3521), this notice announces that the Veterans Benefits Administration, Department of Veterans Affairs, will submit the collection of information abstracted below to the Office of Management and Budget (OMB) for review and comment. The PRA submission describes the nature of the information collection and its expected cost and burden; it includes the actual data collection instrument.

DATES: Comments must be submitted on or before October 31, 2012.

ADDRESSES: Submit written comments on the collection of information through www.Regulations.gov or to VA's OMB Desk Officer, Office of Information and Regulatory Affairs, New Executive Office Building, Room 10235, Washington, DC 20503 (202) 395-7316. Please refer to “OMB Control No. 2900-0564” in any correspondence.

FOR FURTHER INFORMATION CONTACT: Denise McLamb, Enterprise Records Service (005R1B), Department of Veterans Affairs, 810 Vermont Avenue NW., Washington, DC 20420, (202) 632-7479, FAX (202) 632-7583 or email denise.mclamb@va.gov. Please refer to “OMB Control No. 2900-0564.”

SUPPLEMENTARY INFORMATION: Titles:

a. Direct Deposit Enrollment, VA Form 24-0296.

b. International Direct Deposit Enrollment, VA Form 24-0296a.

OMB Control Number: 2900-0564.

Type of Review: Revision of a currently approved collection.

Abstract: Claimants who wish to have their benefit payments electronically deposited into their financial institution account must complete the appropriate direct deposit enrollment form to enroll the electronic funds transfer program.

An agency may not conduct or sponsor, and a person is not required to respond to a collection of information unless it displays a currently valid OMB control number. The Federal Register Notice with a 60-day comment period soliciting comments on this collection of information was published on July 25, 2012, at page 43663.

Affected Public: Individuals or households.

Estimated Annual Burden:

a. VA Form 24-0296—750 hours.

b. VA Form 24-0296a—500 hours.

Estimated Average Burden per Respondent:

a. VA Form 24-0296—15 minutes.

b. VA Form 24-0296a—15 minutes.

Frequency of Response: On occasion.

Estimated Number of Respondents:

a. VA Form 24-0296—3,000.

b. VA Form 24-0296a—2,000.

Dated: September 26, 2012.
By direction of the Secretary.
Denise McLamb,
Program Analyst, Enterprise Records Service.

[FR Doc. 2012-24077 Filed 9-28-12; 8:45 am]

BILLING CODE 8320-01-P